ENVIRONMENTAL PROTECTION AGENCY

[CA071-NOA; FRL-7148-5]

Adequacy Status for Transportation Conformity Purposes of the Motor Vehicle Emissions Budgets in the San Francisco Bay Area Ozone Attainment Plan

AGENCY: Environmental Protection Agency (EPA).

ACTION: Notice of adequacy status.

SUMMARY: In this notice, EPA is notifying the public that it has found the motor vehicle emissions budgets in the submitted San Francisco Bay Area Ozone Attainment Plan for the 1-Hour National Ozone Standard (adopted October 24, 2001) are adequate for transportation conformity purposes.

DATES: The adequacy finding is effective March 8, 2002.

FOR FURTHER INFORMATION CONTACT: This notice, the findings letter and its enclosures (giving the basis for the adequacy finding and responses to public comments) are available on EPA's conformity web site: http://www.epa.gov/otaq/traq, (once there, click on the “Conformity” button, then look for “Adequacy Review of SIP Submissions for Conformity”). You may also contact Ginger Vagenas, U.S. EPA, Region IX, Air Division AIR-2, 75 Hawthorne Street, San Francisco, CA 94105; (415) 972-3964 or vagenas.ginger@epa.gov.

SUPPLEMENTARY INFORMATION:

Note: In this document, “we,” “us” and “our” refer to EPA.

Today's notice is an announcement of a finding that we have already made. On February 14, 2002, EPA Region IX sent a letter to the California Air Resources Board (CARB), stating that motor vehicle emission budgets in the San Francisco Bay Area Ozone Attainment Plan for the 1-Hour National Ozone Standard (revised September 2001 and submitted by CARB on November 30, 2001) are adequate for transportation conformity purposes. These budgets are for the year 2006 and are 164.0 tons per day of volatile organic compounds (VOC) and 270.3 tons per day of nitrogen oxides (NOX).

Transportation conformity is required by section 176(c) of the Clean Air Act (CAA). Our conformity rule requires that transportation plans, programs, and projects conform to state air quality implementation plans (SIPs) and establishes the criteria and procedures for determining whether or not they do. Conformity to a SIP means that transportation activities will not cause new air quality violations, worsen existing violations, or delay timely attainment of the national ambient air quality standards.

The criteria by which we determine whether a SIP's motor vehicle emission budgets are adequate for conformity purposes are outlined in 40 CFR 93.118(e)(4). An adequacy review is separate from the SIP completeness review required by CAA section 110(k)(1). In addition, it should not be used to prejudge our ultimate action on the SIP. Even when we find budgets in a SIP adequate for transportation conformity purposes, we may still later disapprove the SIP.

We have described our process for determining the adequacy of submitted SIP budgets in guidance (May 14, 1999 memo titled “Conformity Guidance on Implementation of March 2, 1999 Conformity Court Decision”). We followed this guidance in making our adequacy determination.

Dated: February 14, 2002.
Wayne Nastri,
Regional Administrator, Region IX.

[FR Doc. 02-4259 Filed 2-20-02; 8:45 am]

BILLING CODE 6560-50-P